DEPARTMENT OF HOUSING AND URBAN DEVELOPMENT

[Docket No. FR-6009-N-05]

Privacy Act of 1974; System of Records Section 811 Project Rental Assistance Evaluation—Phase II

AGENCY: Office of Policy Development and Research, HUD.

ACTION: Notice of a Revision for an Existing System of Records.

SUMMARY: Pursuant to the Privacy Act of 1974, notice is hereby given that the Office of Policy Development and Research (PD&R), U.S. Department of Housing and Urban Development (HUD), provides public notice regarding a revision of its System of Records for the Section 811 Project Rental Assistance Evaluation—Phase II. This evaluation will assess the implementation and effectiveness of the Section 811 Project Rental Assistance program for extremely low-income nonelderly adults with disabilities. Primary data collection will include interviews with grantees and program partners and stakeholders and surveys of Section 811 Project Rental Assistance and Project Rental Assistance Contract residents. Secondary (existing) datasets will include HUD administrative data, Medicare and Medicaid data from the Centers for Medicare & Medicaid Services (CMS), state Medicaid data from six state Medicaid agencies, Project Rental Assistance and Project Rental Assistance Contract program documents, and neighborhood administrative data. The second category of user under the routine uses of records maintained in the SORN is revised to clarify that researchers will be under contract with HUD and the purpose of the routine use is producing a dataset to be used to support the “Evaluation of the Section 811 Project Rental Assistance Program.” A more detailed description of the system of records is contained in the purpose section of this notice.

DATES: Applicable January 17, 2018.

Comments Due Date: January 17, 2018.

ADDRESSES: You may submit comments, identified by docket number HUD-2017-[XXXX], by one of the following methods:

Federal e-Rulemaking Portal: http://www.regulations.gov. Follow the instructions provided on that site to submit comments electronically.

Facsimile: 202-619-8365.

Email: www.privacy@hud.gov.

Mail: Attention: Privacy Office, Helen Goff Foster, The Executive Secretariat, 451 7th Street, SW, Room 10139, Washington, DC 20410-0001.

Note: All submissions received must include the agency name and docket number for this rulemaking. All comments received will be posted without change to http://www.regulations.gov, including any personal information provided.

Docket: For access to the docket to read background documents or comments received, go to http://www.regulations.gov.

FOR FURTHER INFORMATION CONTACT: Helen Goff Foster, Senior Agency Official for Privacy, at 451 7th Street, SW, Room 10139; U.S. Department of Housing and Urban Development; Washington, DC 20410-0001; telephone number 202-708-3054 (this is not a toll-free number). Individuals who are hearing- or speech-impaired may access this telephone number via TTY by calling the Federal Relay Service at 800-877-8339 (this is a toll-free number).

SUPPLEMENTARY INFORMATION: The new System of Records will encompass data collected by PD&R to evaluate the Section 811 HUD Project Rental Assistance program. The Section 811 Project Rental Assistance program funds a new model of housing assistance that provides funding to state housing agencies to work in partnership with state human services and Medicaid agencies to create community-based supportive housing for extremely low-income nonelderly adults with disabilities, including those who are currently in or at risk for residing in institutions or who are currently (or at risk for becoming) homeless. This study is the second phase of a multiphase evaluation. Phase I documented the implementation experience of the first 12 state housing agencies that were awarded the first round of Project Rental Assistance grants. In Phase II, the evaluation is focused on 6 states selected from 28 state grantees from the first and second rounds of Section 811 Project Rental Assistance funding: California, Delaware, Louisiana, Maryland, Minneapolis, and Washington. The Phase II evaluation will continue to follow the implementation of the program but will also assess the impact of the program on participants' quality of life and care, housing and neighborhood, and utilization and access to health services and supports, as well as assess the cost-effectiveness of this supportive housing model compared to other models of supportive housing for persons with disabilities.

The new notice states the name and location of the record system, the authority for and manner of its operations, the categories of individuals that it covers, the type of records that it contains, the sources of the information for the records, the routine uses made of the records, and the types of exemptions in place for the records. The notice also includes the business address of the HUD officials who will inform interested persons of how they may gain access to and/or request amendments to records pertaining to themselves.

Publication of this notice allows the Department to provide new information about its system of records notices in a clear and cohesive format. The new system of records will incorporate Federal privacy requirements and Department's policy requirements. The Privacy Act places on Federal agencies principal responsibility for compliance with its provisions, by requiring Federal agencies to safeguard an individual's records against an invasion of personal privacy; protect the records contained in an agency system of records from unauthorized disclosure; ensure that the records collected are relevant, necessary, current, and collected only for their intended use; and adequately safeguard the records to prevent misuse of such information. In addition, this notice demonstrates the Department's focus on industry best practices to protect the personal privacy of the individuals covered by this SORN.

Pursuant to the Privacy Act and the Office of Management and Budget (OMB) guidelines, a report of the amended system of records was submitted to OMB, the Senate Committee on Homeland Security and Governmental Affairs, and the House Committee on Oversight and Government Reform, as instructed by paragraph 4c of Appendix l to OMB Circular No. A-130, “Federal Agencies Responsibilities for Maintaining Records About Individuals,” November 28, 2000.

System Name and Number:

Section 811 Project Rental Assistance Evaluation—Phase II

SECURITY CLASSIFICATION:

This information will not be classified.

SYSTEM LOCATION:

The records are maintained at the Abt Associates (contractor) offices at 55 Wheeler Street, Cambridge, MA 02138 and 4550 Montgomery Avenue, Bethesda, MD 20814, and the U.S. Department of Housing and Urban Development, 451 7th Street SW, Washington, DC 20410-0001.

SYSTEM MANAGER(S):

Carol S. Star, Program Evaluation Division, Office of Policy Development and Research, U.S. Department of Housing and Urban Development, 451 7th Street, SW; Washington, DC 20410; telephone number 202-402-6139 (this is not a toll-free number).

AUTHORITY FOR MAINTENANCE OF THE SYSTEM:

Sec. 501 and 502 of the Housing and Urban Development Act of 1970 (Pub. L. 91-609), 12 U.S.C. 1701z-1, 1701z-2.

PURPOSE(S) OF THE SYSTEM:

The purpose of the system is to allow the Department to collect, track, and study information gathered on Section 811 Project Rental Assistance program participants and to analyze the effectiveness of this rental assistance model compared to other supportive housing models for extremely low-income nonelderly adults with disabilities. This is the second of a multiphase evaluation. The evaluation is funded by the Program Evaluation Division in PD&R. The project will evaluate the implementation of the Section 811 Project Rental Assistance program, its impact on residents, and the cost-effectiveness of this new housing assistance model for persons with disabilities in six states: California, Delaware, Louisiana, Maryland, Minneapolis, and Washington.

Phase II of the Section 811 Project Rental Assistance evaluation will rely on both primary and secondary sources of data to inform the overall evaluation. Primary data collection includes interviews with grantees and program's partners and stakeholders, and surveys of Section 811 Project Rental Assistance and Project Rental Assistance Contract residents. Secondary (existing) datasets will include HUD administrative data, Medicare and Medicaid data from CMS, state Medicaid data from six state Medicaid agencies, Project Rental Assistance and Project Rental Assistance Contract program documents, and neighborhood administrative data.

Primary data collection with grantees, partnering agencies, and Project Rental Assistance and Project Rental Assistance Contract residents is necessary to describe the implementation of the Project Rental Assistance program, identify characteristics of successful program strategies, and assess the impact of the program on Project Rental Assistance residents compared to residents in the traditional Project Rental Assistance Contract program. The collection of secondary data is necessary to identify the outcomes of the Project Rental Assistance program and characteristics of Project Rental Assistance residents, Project Rental Assistance Contract residents, and individuals in the program and comparison groups, and to determine the effectiveness of this new model of housing assistance.

This analysis will inform HUD leadership, policymakers, and HUD partners that implement supportive housing programs for nonelderly adults with disabilities. In addition, the records collected through this evaluation represent HUD's effort to assess and report to Congress on the implementation and effectiveness of this rental assistance approach. The data collected for Section 811 Project Rental Assistance Evaluation—Phase II will be used and stored solely for research purposes, and will not be used to identify individuals or make decisions that affect the rights, benefits, or privileges of specific individuals. The data in this system will include location data, which will be used to analyze the neighborhoods in which Section 811 Project Rental Assistance and Project Rental Assistance Contract residents live. The data in the system will also include information about health, housing, and quality of life measures, which will be used to analyze the extent to which people's lives are being improved by the Section 811 Project Rental Assistance program. The data in this system will be analyzed using statistical methods and only reported in the aggregate. Resulting reports will not disclose or identify any individuals or sensitive personal information. The Section 811 Project Rental Assistance Evaluation is in direct service of the mission of PD&R, which is to “inform policy development and implementation to improve life in American communities through conducting, supporting, and sharing research, surveys, demonstrations, program evaluations, and best practices.”

CATEGORIES OF INDIVIDUALS COVERED BY THE SYSTEM:

Data will be collected from households assisted by the Section 811 Project Rental Assistance and Section 811 Project Rental Assistance Contract programs, other extremely low-income households including a person with a disability served by other HUD-assisted housing programs, a sample of individuals receiving Medicaid or similar state plan services, Section 811 housing agency grantees, and partnering agencies (state Medicaid agencies, property owners, service providers, and public housing agencies). All individuals live in the states of California, Delaware, Louisiana, Maryland, Minnesota, and Washington.

CATEGORIES OF RECORDS IN THE SYSTEM:

The data sets will contain the following categories of records:

• Responses to resident survey: Include participants' names, address, telephone numbers, names and contact information of proxies and/or legal guardians (if applicable), study identifier, information about their experience with the transition to HUD-assisted housing, subjective assessment of housing quality, subjective assessment of neighborhood quality, information about access to supportive services and unmet needs, information about help with supportive services, subjective assessment of quality of life and community inclusion.

• Administrative interviews: Include identifying information—such as full name; job title; and contact information, including addresses, email addresses, and telephone numbers—of program staff and stakeholders (grantee, Medicaid agency, property owners, service providers, and public housing authorities), and qualitative responses about several aspects of the program design and implementation.

• HUD administrative data: Include data on individuals, households, and properties available through HUD administrative data. Collection will be brought into the dataset directly from HUD's Tenant Rental Assistance Certification System (TRACS), Public and Indian Housing Information Center (PIC) Inventory Management System (IMS), and Integrated Real Estate Management System (iREMS). Tenant-level and household-level data include participants' full names, dates of birth, addresses, phone numbers, Social Security numbers; information pertaining to the participating family structure, household size, household income, race and demographics, disability status, unit characteristics; and information about participation in HUD programs. Property-level data include housing agency, property, unit characteristic, and financial information and contact information for property owners, including full names, addresses, phone numbers, and email addresses.

• Medicare and Medicaid data: Include data on individuals available through the Centers for Medicare & Medicaid Services and state Medicaid agencies (CMS). Collection will be brought into the dataset directly from CMS and state Medicaid agencies under a Data Use Agreement with HUD and its contractor Abt Associates. Include study identifier (that can be matched to individuals' full names, dates of birth, Social Security numbers), (such as diagnoses), healthcare utilization, and costs. medical record number, and information pertaining to the individuals' medical services, medical information.

RECORD SOURCE CATEGORIES:

(1) Resident surveys collected directly from Section 811 Project Rental Assistance and Project Rental Assistance Contract residents who have agreed to participate in the survey; (2) Administrative interviews collected directly from state housing agency grantees; (3) Administrative interviews collected directly from partnering agencies who have agreed to participate in the study; Administrative data derived from HUD's tenant and property data systems; and Non-HUD administrative data, such as Medicare and historical Medicaid data; and state Medicaid data.

ROUTINE USES OF RECORDS MAINTAINED IN THE SYSTEM, INCLUDING CATEGORIES OF USERS AND PURPOSES OF SUCH USES:

1. To appropriate agencies, entities, and persons to the extent that such disclosures are compatible with the purpose for which the records in this system were collected, as set forth by Appendix I1—HUD's Library of Routine Uses, published in the Federal Register (July 17, 2012, at 77 FR 41996).

2. To researchers under contract with HUD for producing a dataset to be used in the Evaluation of the Section 811 Project Rental Assistance Program.

3. To appropriate agencies, entities, and persons when: (a) HUD suspects or has confirmed that the security or (b) confidentiality of information in a system of records has been compromised; (b) HUD has determined that, because of the suspected or confirmed compromise, there is a risk of harm to economic or property interests, identity theft or fraud, or harm to the security or integrity of systems or programs (whether maintained by HUD or another agency or entity) that rely upon the compromised information; and (c) the disclosure made to such agencies, entities, and persons is reasonably necessary to assist in connection with HUD's efforts to respond to the suspected or confirmed compromise and prevent, minimize, or remedy such harm for purposes of facilitating responses and remediation efforts in the event of a data breach.

POLICIES AND PRACTICES FOR STORAGE OF RECORDS:

Abt Associates provides all project staff with HIPAA Rules of the Road—Practical Information for Ensuring Compliance, IRB 101 Training, General Security Awareness Training, and Collaborative Institutional Training Initiative (CITI) Human Subjects Training. All study team members also undergo project-specific training on maintaining privacy and safe data storage and handling procedures. All study team members sign a nondisclosure agreement.

All study team members will be made aware of the project-specific data regulations and best practices associated with handling data for the study. These practices are incorporated in the study protocol and will be detailed in training plans for interviewers, support staff, and data analytic staff. All staff who will have access to the data containing personally identifiable information (PII) or protected health information (PHI) will sign a confidentiality agreement pursuant to the requirements of all data use agreements, which will be attached to the data security plan. All staff will also receive an annual reminder of the terms of the agreement.

Abt will guarantee this level of restricted access by only using secure transfer mechanisms, such as Huddle, Abt's FedRAMP Moderate accredited file transfer service for moving data in and out of the system, or another secure file transfer system (SFTP) of the transferring agency's choice. Abt will also only access the data through its restricted access folder on the Analytic Computing Environment, ACE 3, which meets NIST SP 800-53, Revision 4 FISMA Moderate Standards and utilizes FedRAMP Moderate accredited services from Amazon as infrastructure. Abt Associates will retain all data collected over the life of the study and any analysis files generated with those data for as long as required and only under conditions specified in the study protocol. At the end of the contract, Abt will destroy records that do not need to be retained. Abt will destroy the remainder of the files after the contract ends, as is required in the contract. The retention and disposal procedures are in keeping with HUD's records management policies as described in 44 U.S.C. 3101 and 44 U.S.C. 3303 and with HUD's Records Disposition Schedule 67 PD&R, Item 6 (https://portal.hud.gov/hudportal/documents/huddoc?id=22256x67 ADMH.pdf). Abt Associates will submit all de-identified data over to HUD at the end of the contract, with the exception of the ResDAC and Medicaid data, which will not be included as per memorandum of understanding with these agencies.

ADMINISTRATIVE, TECHNICAL, AND PHYSICAL SAFEGUARDS:

The study's approved data security plan describes the safeguarding of any hardcopy, recorded, and electronic information on human subjects that will be a part of the study. All study team members are aware of the project-specific data regulations and best practices associated with handling data for the study. These practices are incorporated in the study protocol and will be detailed in training plans for interviewers, support staff, and data analytic staff. All staff who will have access to the data containing PII or PHI information sign a confidentiality agreement, per the requirements of all data use agreements.

Abt will guarantee this level of restricted access by only using secure transfer mechanisms, such as Huddle, Abt's FedRAMP Moderate accredited file transfer service for moving data in and out of the system, or another SFTP of the transferring agency's choice. Abt will also only access the data through its restricted access folder on the Analytic Computing Environment, ACE 3, which meets NIST SP 800-53 Revision 4 FISMA Moderate Standards and utilizes FedRAMP Moderate accredited services from Amazon as infrastructure.

RECORD ACCESS PROCEDURES:

For information, assistance, or inquiry about records, contact Helen Goff Foster, Senior Agency Official for Privacy, at 451 7th Street SW, Room 10139; U.S. Department of Housing and Urban Development; Washington, DC 20410-0001, telephone number 202-708-3054 (this is not a toll-free number). When seeking records about yourself from this system of records or any other Housing and Urban Development (HUD) system of records, your request must conform with the Privacy Act regulations set forth in 24 CFR part 16. You must first verify your identity, meaning that you must provide your full name, address, and date and place of birth. You must sign your request, and your signature must either be notarized or submitted under 28 U.S.C. 1746, a law that permits statements to be made, under penalty of perjury, as a substitute for notarization. In addition, your request should:

a. Explain why you believe HUD would have information on you.

b. Identify which Office of HUD you believe has the records about you.

c. Specify when you believe the records would have been created.

d. Provide any other information that will help the Freedom of Information Act (FOIA) staff determine which HUD office may have responsive records.

If your request is seeking records pertaining to another living individual, you must include a statement from that individual certifying their agreement for you to access their records. Without the above information, the HUD FOIA Office may not conduct an effective search, and your request may be denied due to lack of specificity or lack of compliance with regulations.

CONTESTING RECORD PROCEDURES:

The Department's rules for contesting contents of records and appealing initial denials appear in 24 CFR part 16, Procedures for Inquiries. Additional assistance may be obtained by contacting Helen Goff Foster, Senior Agency Official for Privacy, at 451 7th Street SW, Room 10139; U.S. Department of Housing and Urban Development; Washington, DC 20410-0001, or the HUD Departmental Privacy Appeals Officers; Office of General Counsel; U.S. Department of Housing and Urban Development; 451 7th Street SW; Washington DC 20410-0001.

NOTIFICATION PROCEDURES:

Individual wishing to determine to whether this system of records contains information about them may do so by contacting their lending institutions or contacting HUD's Privacy Officer or Freedom of Information Act Office at the addresses above.

EXEMPTIONS PROMULGATED FOR THE SYSTEM:

None.

HISTORY:

Dated: December 8, 2017.
Helen Goff Foster,
Senior Agency Official for Privacy.

[FR Doc. 2017-27125 Filed 12-15-17; 8:45 am]

BILLING CODE 4210-67-P